DEPARTMENT OF THE INTERIOR

Bureau of Land Management

[LLORW00000.L16100000.DF0000. LXSS1080000.16XL1109AF. HAG17-0045]

Notice of Public Meeting for the San Juan Islands National Monument Advisory Committee

AGENCY: Bureau of Land Management, Interior

ACTION: Notice of public meeting

SUMMARY: In accordance with the Federal Land Policy and Management Act and the Federal Advisory Committee Act of 1972, and the U.S. Department of the Interior, Bureau of Land Management (BLM), the San Juan Islands National Monument Advisory Committee (MAC) will meet as indicated below:

DATES: The MAC will hold a public meeting Monday, January 30th, 2017. The meeting will run from 8:00 a.m. to 3:00 p.m. The meeting will be held at the Lopez Library at 2225 Fisherman Bay Rd, Lopez Island, WA 98261. A public comment period will be available in the afternoon from noon until 1 p.m.

FOR FURTHER INFORMATION CONTACT: Marcia deChadenèdes, San Juan Islands National Monument Manager, P.O. Box 3, 37 Washburn Ave., Suite 101, Lopez Island, Washington 98261, (360) 468-3051, or mdechade@blm.gov. Persons who use a telecommunications device for the deaf (TDD) may call the Federal Relay Service at 1 (800) 877-8339 to contact the above individual during normal business hours. This service is available 24 hours a day, 7 days a week, to leave a message or question with the above individual. You will receive a reply during normal business hours.

SUPPLEMENTARY INFORMATION: The twelve member San Juan Islands MAC was chartered to provide information and advice regarding the development of the San Juan Islands National Monument's RMP. Members represent an array of stakeholder interests in the land and resources from within the local area and statewide. All advisory committee meetings are open to the public. At noon members of the public will have the opportunity to make comments to the MAC during a one hour public comment period. Persons wishing to make comments during the public comment period should register in person with the BLM by 11 a.m. on the meeting day, at the meeting location. Depending on the number of persons wishing to comment, the length of comments may be limited. The public may send written comments to the MAC at San Juan Islands National Monument, Attn. MAC, P.O. Box 3, 37 Washburn Ave., Suite 101, Lopez Island, Washington 98261. The BLM appreciates all comments.

Dennis Strange,
Spokane District Manager.

[FR Doc. 2016-30111 Filed 12-14-16; 8:45 am]

BILLING CODE 4310-33-P